NATIONAL FOUNDATION ON THE ARTS AND THE HUMANITIES

National Endowment for the Humanities

2 CFR Part 3374

45 CFR Part 1174

RIN 3136-AA35

Uniform Administrative Requirements, Cost Principles, and Audit Requirements for Federal Awards

AGENCY: National Endowment for the Humanities, National Foundation on the Arts and the Humanities.

ACTION: Final rule.

SUMMARY: The National Endowment for the Humanities (NEH) has adopted as final its interim final rule outlining uniform administrative requirements, cost principles, and audit requirements for Federal awards.

DATES: This rule is effective on September 16, 2015.

FOR FURTHER INFORMATION CONTACT: Robert Straughter, Director, Office of Grant Management, National Endowment for the Humanities, 400 7th Street SW., Room, 4060, Washington, DC 20506; (202) 606-8237, rstraughter@neh.gov (please include RIN 3136-AA35 in the subject line of the message).

SUPPLEMENTARY INFORMATION: On December 19, 2014, the Office of Management and Budget (OMB) published an interim final rule that implemented for all Federal award-making agencies, including NEH, OMB's final guidance on Uniform Administrative Requirements, Cost Principles, and Audit Requirements for Federal Awards. 79 FR 75871. OMB published the uniform rules as 2 CFR part 200. As part of that rulemaking, NEH adopted part 200 through an agency-specific addendum at 2 CFR part 3374. NEH removed and reserved its prior regulations about administrative requirements for Federal awards, 45 CFR part 1174, which were rendered obsolete by the new provisions.

NEH received no comments in response to its adoption of the interim final rule. Therefore, 2 CFR part 3374 as described in the interim final rule, is adopted with no changes.

Regulatory Findings

For the regulatory findings regarding this rulemaking, please refer to the analysis prepared by OMB in the interim final rule, which is incorporated herein by reference. 79 FR at 75876.

Accordingly, the interim rule adding 2 CFR part 3374 and amending 45 CFR part 1174, which was published at 79 FR 75871 on December 19, 2014, is adopted as a final rule without change.

Dated: September 10, 2015.
Michael P. McDonald,
General Counsel.

[FR Doc. 2015-23186 Filed 9-15-15; 8:45 am]

BILLING CODE 7536-01-P